DEPARTMENT OF ENERGY

Federal Energy Regulatory Commission

[Project No. 14245-000]

KC Hydo LLC of New Hampshire; Notice of Preliminary Permit Application Accepted for Filing and Soliciting Comments, Motions To Intervene, and Competing Applications

On August 5, 2011, KC Hydo LLC of New Hampshire filed an application for a preliminary permit, pursuant to section 4(f) of the Federal Power Act (FPA), proposing to study the feasibility of the Pittsfield Mill Dam Hydropower Project (Pittsfield Mill Dam Project or project) to be located on Suncook River, near the Town of Pittsfield, Merrimack County, New Hampshire. The sole purpose of a preliminary permit, if issued, is to grant the permit holder priority to file a license application during the permit term. A preliminary permit does not authorize the permit holder to perform any land-disturbing activities or otherwise enter upon lands or waters owned by others without the owners' express permission.

The proposed project would consist of the following: (1) The existing 470-foot-long, 16-foot-high Pittsfield Mill dam, which is owned by the New Hampshire Department of Environmental Services and includes a 159-foot-long ogee spillway; (2) an existing 20 acre impoundment with 112 acre-feet of storage capacity at the spillway crest elevation of 474.5 feet mean sea level (MSL); (3) a newly constructed powerhouse; (4) new electrical generating equipment with total hydraulic capacity of 423 cubic feet per second (cfs) and total installed generating capacity of 0.530 megawatts connected to a rehabilitated 96-inch- diameter penstock; (5) rehabilitated intake gate structure and trash racks; (6) a newly excavated 100-foot-long tailrace; (7) an approximately 200-foot-long transmission line; and (8) appurtenant facilities. The estimated annual generation of the Pittsfield Mill Dam Project would be 2.120 gigawatt-hours (GWH).

Applicant Contact: Ms. Kelly Sackheim, Principal, KC Hydro LLC of New Hampshire, 5096 Cocoa Palm Way, Fair Oaks, CA 95628; phone: (301) 401-5978.

FERC Contact: John Ramer; phone: (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14245-000) in the docket number field to access the document. For assistance, contact FERC Online Support.

Dated: November 10, 2011.
Kimberly D. Bose,
Secretary.

[FR Doc. 2011-29929 Filed 11-18-11; 8:45 am]

BILLING CODE 6717-01-P